DEPARTMENT OF COMMERCE

Bureau of Industry and Security

Action Affecting Export Privileges: Uni-Arab Engineering and Oil Field Services

Order Temporarily Denying Export Privileges

Through the Office of Export Enforcement (“OEE”), the Bureau of Industry and Security (“BIS”), U.S. Department of Commerce, has requested that I issue an Order pursuant to Section 766.24 of the Export Administration Regulations (currently codified at 15 CFR 730-774 (2003)) (“EAR”),¹ temporarily denying export privileges of Uni-Arab Engineering and Oil Field Services (“Uni-Arab”), P.O. Box 46112, Abu Dhabi, United Arab Emirates, and. Al-Gaith Tower, Hamden Street, Flat No. 1202, Abu Dhabi, United Arab Emirates (hereinafter referred to as the “Respondent”). OEE has also requested that, in order to prevent evasion, this Order should be made applicable to Jaime Radi Mustafa, a.k.a. Radi Mustafa (“Radi Mustafa”), 888 Cross Gates Boulevard, Slidell, Louisiana 70458, and, Khalidiya, P.O. Box 46112, Abu Dhabi, United Arab Emirates; and Nureddin Shariff Sehweil, a.k.a. Dean Sehweil (“Dean Sehweil”), 888 Cross Gates Boulevard, Slidell, Louisiana 70458, and 106 Everest Drive, Slidell, Louisiana 70461, and, Khalidiya, P.O. Box 46112, Abu Dhabi, United Arab Emirates (hereinafter collectively referred to as the “Related Persons”).

¹ The EAR, which are currently codified at 15 CFR parts 730-774 (2003), are issued under the Export Administration Act of 1979, as amended (50 U.S.C. app 2401-2420 (2000)) (“EAA”) was in lapse. During that period, the President, through Executive Order 12924, which had been extended by successive Presidential Notices, the last of which was August 3, 2000 (3 CFR, 2000 Comp. 397 (2001)), continued the Export Administration Regulations (“EAR”) in effect under the International Emergency Economic Powers Act (50 U.S.C. 1701-1707 (2000)) (“IEEPA”). On November 13, 2000, the EAA was reauthorized and it remained in effect through August 20, 2001. Since August 21, 2001, the EAA has been in lapse and the President, through Executive Order 13222 of August 17, 2001 (3 CFR, 2001 Comp. 783 (2002)), as extended by the Notice of August 7, 2003 (68 FR 47833, August 11, 2003), has continued the EAR in effect under IEEPA.

In its request, BIS states that, based upon an investigation by OEE, it believes that the Respondent has attempted to evade the terms of a temporary denial order dated September 30, 2002, that denied the export privileges of International Business Services, Ltd. (“IBS”), and its owner, Yaudat Mustafa Talyi, a.k.a. Joseph Talyi (“Talyi”), for 180 days. See 67 FR 62225. BIS states that it further believes that Respondent has, for more than ten years, engaged in the business of exporting U.S. origin items to Libya without the required U.S. Government authorization.

In addition, OEE's investigation has determined that the Related Persons, Radi Mustafa and Dean Sehweil are, respectively, the Assistant Managing Director and the Managing Director of Uni-Arab and that it is appropriate to name them as Related Persons.

I find the evidence presented by BIS demonstrates that the Respondent has conspired to commit repeated violations of U.S. export control laws, including the EAR, that such violations have been deliberate and covert, and that, given the nature of the items shipped and the manner in which they have been shipped in the past, such violations could go undetected in the future. As such, a Temporary Denial Order (“TDO”) is needed to give notice to companies in the United States and abroad that they should cease dealing with the Respondent and Related Persons in export transactions involving U.S.-origin commodities, software or technology. Such a TDO is consistent with the public interest to preclude future violations of the EAR.

Accordingly, I find that a TDO naming Uni-Arab as the respondent and Radi Mustafa and Dean Sehweil as related persons is necessary, in the public interest, to prevent an imminent violation of the EAR. This Order is issued on an ex parte basis without a hearing based upon BIS's showing of an imminent violation.

It is Therefore Ordered:

First, that the Respondent, Uni-Arab Engineering and Oil Field Services, P.O. Box 46112, Abu Dhabi, United Arab Emirates, and Al-Gaith Tower, Hamden Street, Flat No. 1202, Abu Dhabi, United Arab Emirates and Related Persons Jaime Radi Mustafa, a.k.a. Radi Mustafa, 888 Cross Gates Boulevard, Slidell, Louisiana 70458, and, Khalidiya, P.O. Box 46112, Abu Dhabi, United Arab Emirates; and Nureddin Shariff Sehweil, a.k.a. Dean Sehweil, 888 Cross Gates Boulevard, Slidell, Louisiana 70458, and, 106 Everest Drive, Slidell, Louisiana 70461, and, Khalidiya, P.O Box 46112, Abu Dhabi, United Arab Emirates may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Respondent or Related Persons any item subject to the EAR;

B. Take any action that facilitates the acquisition or attempted acquisition by the Respondent or Related Persons of the ownership, possession, or control of any item subject to the EAR that has been or will be exported from the United States, including financing or other support activities related to a transaction whereby the Respondent or Related Persons acquires or attempts to acquire such ownership, possession or control;

C. Take any action to acquire from or to facilitate the acquisition or attempted acquisition from the Respondent or Related persons of any item subject to the EAR that has been exported from the United States;

D. Obtain from the Respondent or Related Persons in the United States any item subject to the EAR with knowledge or reason to know that the item will be, or is intended to be, exported from the United States; or

E. Engage in any transaction to service any item subject to the EAR that has been or will be exported from the United States and which is owned, possessed or controlled by the Respondent or Related Persons, or service any item, of whatever origin, that is owned, possessed or controlled by the Respondent or Related Persons if such service involves the use of any time subject to the EAR that has been or will be exported from the United States. For purposes of this paragraph, servicing means installation, maintenance, repair, modification or testing.

Third, that, after notice and opportunity to oppose such action, as provided in section 766.23 of the EAR, any other person, firm, corporation, or business organization related to the Respondent by affiliation, ownership, control, or position of responsibility in the conduct of trade or business may also be made subject to the provisions of this Order.

Fourth, that this Order does not prohibit any export, reexport, or other transaction subject to the EAR where the only items involved that are subject to the EAR are the foreign-produced direct product of U.S.-origin technology.

In accordance with the provisions of Section 766.24(e) of the EAR, the Respondent may, at any time, appeal this Order by filing a full written statement in support of the appeal with the Office of the Administrative Law Judge, U.S. Coast Guard ALJ Docketing Center, 40 South Gay Street, Baltimore, Maryland 21202-4022.

In accordance with the provisions of Section 766.23(c) of the EAR, the Related Persons may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondent may oppose a request to renew this Order by filing a written submission with the Assistant Secretary of Commerce for Export Enforcement, which must be received not later than seven days before the expiration date of the Order.

A copy of this Order shall be served on the Respondent and Related Persons and shall be published in the Federal Register.

This Order is effective immediately and shall remain in effect for 180 days.

Entered this 19th day of March, 2004.
Julie L. Myers,
Assistant Secretary of Commerce for Export Enforcement.

[FR Doc. 04-6690 Filed 3-24-04; 8:45 am]

BILLING CODE 3510-DT-M